SURFACE TRANSPORTATION BOARD

[Docket No. FD 36840]

American Services Rail, LLC—Change of Operators Exemption—Chicago, Rock Island & Pacific Railroad, LLC

American Services Rail, LLC (ASR), a noncarrier, has filed a verified notice of exemption under 49 CFR 1150.31 to lease from Coahoma County, Miss. (County), a noncarrier, and operate approximately 0.25 miles of rail line extending between milepost 103.75 and milepost 104.00 at or near Swan Lake, Miss. (the Line). Chicago, Rock Island & Pacific Railroad, LLC (CRIP) currently operates the Line. See Chi., Rock Island & Pac. R.R.—Lease & Operation Exemption—Rail Line of Coahoma Cnty., Miss., near Swan Lake, Miss., FD 36307 (served June 7, 2019).

ASR states that it and the County have entered into a lease under which ASR will operate as a common carrier on the Line and will operate an additional 50.81 miles of County-owned track as a contract carrier. According to ASR, upon consummation of the proposed transaction, ASR will replace CRIP as the operator of the Line, releasing CRIP from its common carrier obligation on the Line.¹

¹ It appears that another rail carrier, C&J Railroad Company d/b/a Mississippi Delta Railroad (C&J), continues to hold operating authority over the Line. See C&J R.R.—Acquis. & Operation Exemption—Rail Line in Tallahatchie Cnty., Miss., FD 34673 (STB served May 6, 2005); see also Chi., Rock Island & Pac. R.R., FD 36307, slip op. at 2 n.3 (declining to convert a lease and operation exemption to a change in operators exemption “because the verified notice does not indicate that CRIP has reached an agreement with C&J for C&J to cease its own operations over the [Line]”).

ASR certifies that the agreement between ASR and the County does not impose or include an interchange commitment. ASR also certifies that its projected annual revenues as a result of this transaction will not result in the creation of a Class II or Class I rail carrier and will not exceed $5 million.

Under 49 CFR 1150.32(b), a change in operators exemption requires that notice be given to shippers. ASR states there are no shippers on the Line, but that ASR gave notice to shippers that will receive contract service and whose commodities will traverse the Line.

The transaction may be consummated on or after April 9, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed by April 2, 2025 (at least seven days before the exemption becomes effective).

All pleadings, referring to Docket No. FD 36840, must be filed with the Surface Transportation Board either via e-filing on the Board's website or in writing addressed to 395 E Street SW, Washington, DC 20423-0001. In addition, a copy of each pleading must be served on ASR's representative, Justin J. Marks, Clark Hill PLC, 1001 Pennsylvania Avenue NW, Suite 1300 South, Washington, DC 20004.

According to ASR, this action is categorically excluded from environmental review under 49 CFR 1105.6(c) and from historic preservation reporting requirements under 49 CFR 1105.8(b).

Board decisions and notices are available at www.stb.gov.

Decided: March 20, 2025.
By the Board, Valerie O. Quinn, Acting Director, Office of Proceedings.
Kenyatta Clay,
Clearance Clerk.

[FR Doc. 2025-05137 Filed 3-25-25; 8:45 am]

BILLING CODE 4915-01-P